COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before: July 5, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

MR 13037—Microwave Bacon Crisper

MR 13039—Microwave Popcorn Popper

MR 13065—Microwave Steamer

MR 13074—Set, Bowls, Glass, Prep, 4 Piece

MR 13075—Set, Mini Grate and Slice

MR 13079—Set, Glass Containers, Smart Seal, 12 Piece

MR 13151—POP 3 Pc Slim Container Set

MR 13152—POP 4 Pc Baking Accessories Set

Mandatory Source of Supply: Cincinnati Association for the Blind, Cincinnati, OH

Contracting Activity: Military Resale-Defense Commissary Agency

NSN(s)—Product Name(s):

MR 10767—Saver, Grapefruit, Includes Shipper 20767

MR 13050—Iced Tea Tumbler, 16 Ounces, Green

MR 13051—Iced Tea Tumbler, 16 Ounces, Pink

Mandatory Source of Supply: Winston-Salem Industries for the Blind, Inc., Winston-Salem, NC

Contracting Activity: Military Resale-Defense Commissary Agency

NSN(s)—Product Name(s):

MR 13032—Shelf Liner, Biodegradable, Clear

Mandatory Source of Supply: LC Industries, Inc., Durham, NC

Contracting Activity: Military Resale-Defense Commissary Agency

NSN(s)—Product Name(s):

MR 11129—Bag, Paper, Lunch, 50 Count

Mandatory Source of Supply: South Texas Lighthouse for the Blind, Corpus Christi, TX

Contracting Activity: Military Resale-Defense Commissary Agency

Services

Service Type: Custodial Service

Mandatory for: US Air Force, USAF Space Command (AFSPC), Peterson Air Force Base and Cheyenne Mountain Air Force Station, Colorado Springs, CO

Recommended Mandatory Source of Supply: Professional Contract Services, Inc., Austin, TX

Contracting Activity: FA2517 21 CONS, PETERSON AFB, CO

Service Type: Laundry Service

Mandatory for: U.S. Navy, Navy Medicine Readiness and Training Unit, Naval Support Activity Mid-South, Millington, TN

Mandatory Source of Supply: Wiregrass Rehabilitation Center, Inc., Dothan, AL

Contracting Activity: DEPT OF THE NAVY, NAVAL HOSPITAL PENSACOLA FL

Deletions

The following products are proposed for deletion from the Procurement List:

Products

NSN(s)—Product Name(s):

4220-00-926-9459—Vest, Life Preserver, USN, Yellow, Small

4220-00-926-9461—Cover, Protective, Life Preserver

4220-00-926-9460—Cover, Protective, Life Preserver

4220-00-926-9462—Cover, Protective, Life Preserver

4220-00-926-9464—Cover, Protective, Life Preserver

4220-00-926-9465—Cover, Protective, Life Preserver

4220-00-926-9466—Cover, Protective, Life Preserver

4220-00-926-9467—Cover, Protective, Life Preserver

4220-00-926-9469—Cover, Protective, Life Preserver

4220-00-926-9471—Cover, Protective, Life Preserver

4220-00-926-9472—Cover, Protective, Life Preserver

4220-00-926-9473—Cover, Protective, Life Preserver

4220-00-926-9474—Cover, Protective, Life Preserver

4220-00-926-9475—Cover, Protective, Life Preserver

4220-00-926-9476—Cover, Protective, Life Preserver

4220-00-926-9478—Cover, Protective, Life Preserver

4220-00-926-9479—Cover, Protective, Life Preserver

Mandatory Source of Supply: Mississippi Industries for the Blind, Jackson, MS; Lions Volunteer Blind Industries, Inc., Morristown, TN

Contracting Activity: DLA TROOP SUPPORT, PHILADELPHIA, PA

NSN(s)—Product Name(s):

4220-00-926-9463—Cover, Protective, Life Preserver

4220-00-926-9470—Cover, Protective, Life Preserver

4220-00-926-9477—Cover, Protective, Life Preserver

Mandatory Source of Supply: Lions Volunteer Blind Industries, Inc., Morristown, TN

Contracting Activity: DLA TROOP SUPPORT, PHILADELPHIA, PA

NSN(s)—Product Name(s):

6532-00-299-9629—Trousers, Operating, Surgical, X-Large

6532-00-299-9630—Trousers, Operating, Surgical, Medium

6532-00-299-9631—Trousers, Operating, Surgical, Small

6532-00-299-9628—Trousers, Operating, Surgical, Large

Mandatory Source of Supply: TradeWinds Services, Inc., Merrillville, IN

Contracting Activity: DLA TROOP SUPPORT, PHILADELPHIA, PA

NSN(s)—Product Name(s):

MR 462—Grocery Shopping Tote Bag, Laminated, Winter Club Pack, Winter Scene, Small

MR 464—Grocery Shopping Tote Bag, Laminated, Winter Club Pack, Spring Scene, Small

Mandatory Source of Supply: Industries for the Blind and Visually Impaired, Inc., West Allis, WI

Contracting Activity: Military Resale-Defense Commissary Agency

Michael R. Jurkowski,
Deputy Director, Business & PL Operations.

[FR Doc. 2020-12191 Filed 6-4-20; 8:45 am]

BILLING CODE 6353-01-P